NUCLEAR REGULATORY COMMISSION

[NRC-2012-0268]

Proposed Revisions to Radiation Protection

AGENCY: Nuclear Regulatory Commission.

ACTION: Standard review plan-draft section revision; request for comment.

SUMMARY: The U.S. Nuclear Regulatory Commission (NRC or the Commission) is revising the following sections in Chapter 12, “Radiation Protection” and soliciting public comment on NUREG-0800, “Standard Review Plan for the Review of Safety Analysis Reports for Nuclear Power Plants: LWR Edition,” Section 12.1, “Assuring that Occupational Radiation Exposures Are As Low As Is Reasonably Achievable,” Section 12.2, “Radiation Sources,” 12.3-12.4, “Radiation Protection Design Features,” and Section 12.5, “Operational Radiation Protection Program.”

DATES: Submit comments by January 7, 2013. Comments received after this date will be considered, if it is practical to do so, but the Commission is able to ensure consideration only for comments received on or before this date.

ADDRESSES: You may access information and comment submissions related to this document, which the NRC possesses and are publicly available, by searching on http://www.regulations.gov under Docket ID NRC-2012-0268. You may submit comments by any of the following methods:

• Federal Rulemaking Web site: Go to http://www.regulations.gov and search for Docket ID NRC-2012-0268. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Ms. Amy E. Cubbage, Office of New Reactors, U.S. Nuclear Regulatory Commission, Washington, DC 20555-0001, telephone at 301-415-2875, email at mailto:Amy.Cubbage@nrc.gov.

SUPPLEMENTARY INFORMATION:

I. Accessing Information and Submitting Comments

A. Accessing Information

Please refer to Docket ID NRC-2012-0268 when contacting the NRC about the availability of information regarding this document. You may access information related to this document, which the NRC possesses and are publicly available, by any of the following methods:

• Federal Rulemaking Web site: Go to http://www.regulations.gov and search for Docket ID NRC-2012-0268.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS Accession numbers for redline documents comparing current revisions and the proposed revisions of individual sections are available in ADAMS under Accession Nos.: Section 12.1, Proposed Revision 4 (ML12186A005), Current Revision 3 (ML070710474), Redline (ML12199A463); Section 12.2 Proposed Revision 4 (ML12186A009), Current Revision 3 (ML070710496), Redline (ML12199A461); Section 12.3—12.4 Proposed Revision 5 (ML12191A219), Current Revision 4 (ML113081427), Redline (ML12199A462); and Section 12.5 Proposed Revision 5 (ML12186A007), Current Revision 4 (ML100740544), Redline (ML12199A009).

• NRC's PDR: You may examine and purchase copies of public documents at the NRC's PDR, Room O1-F21, One White Flint North, 11555 Rockville Pike, Rockville, Maryland 20852.

B. Submitting Comments

Please include Docket ID NRC-2012-0268 in the subject line of your comment submission, in order to ensure that the NRC is able to make your comment submission available to the public in this docket.

The NRC cautions you not to include identifying or contact information in comment submissions that you do not want to be publicly disclosed. The NRC posts all comment submissions at http://www.regulations.gov as well as enters the comment submissions into ADAMS. The NRC does not routinely edit comment submissions to remove identifying or contact information.

If you are requesting or aggregating comments from other persons for submission to the NRC, then you should inform those persons not to include identifying or contact information in their comment submissions that they do not want to be publicly disclosed. Your request should state that the NRC does not routinely edit comment submissions to remove such information before making the comment submissions available to the public or entering the comment submissions into ADAMS.

II. Further Information

The Office of New Reactors and Office of Nuclear Reactor Regulation are revising Sections 12.1—12.5 of the current Standard Review Plan (SRP). Details of specific revisions are included in the end of each of the revised sections themselves and are shown in the description of changes.

The changes to this SRP Chapter reflect current staff review methods and practices based on lessons learned from NRC reviews of design certification (DC) and combined license (COL) applications completed since the last revision of this chapter in March 2007. Changes include: (1) Guidance to the staff for evaluating the acceptability of the radiation protection program, including the applicant's use of generic radiation protection and groundwater program templates, (2) additional guidance for review of existing regulatory requirements related to the material covered in Chapter 12 of the SRP, (3) updating the review interfaces to improve the efficiency and consistency of staff reviews, and (4) updating references covered in SRP Chapter 12.

The NRC staff is issuing this notice to solicit public comments on the proposed SRP revisions to Chapter 12. After the NRC staff considers any public comments, it will make a determination regarding the proposed SRP Sections in Chapter 12.

Dated at Rockville, Maryland, this October 26, 2012.
For the Nuclear Regulatory Commission.
Amy E. Cubbage,
Chief, Policy Branch, Division of Advanced Reactors and Rulemaking, Office of New Reactors.

[FR Doc. 2012-27069 Filed 11-5-12; 8:45 am]

BILLING CODE 7590-01-P